DEPARTMENT OF HEALTH AND HUMAN SERVICES

Centers for Medicare & Medicaid Services

[Document Identifier: CMS-10398 #17]

Medicaid and Children's Health Insurance Program (CHIP) Generic Information Collection Activities: Proposed Collection; Extension of Comment Period

AGENCY: Centers for Medicare & Medicaid Services, Health and Human Services (HHS).

ACTION: Notice; extension of comment period.

SUMMARY: This document extends the public comment period of a revised collection of information request (entitled, “CHIP State Plan Eligibility”) that published in the Federal Register on June 12, 2025. We are not proposing any other changes. Comments previously submitted need not be resubmitted.

DATES: The 14-day comment period for the notice that published on June 12, 2025, at 90 FR 24804, is extended due to difficulties with posting the collection of information's materials on the internet for public review and comment. Comments must be received on/by the extended date of July 2, 2025.

ADDRESSES: When commenting, please reference the applicable form number (CMS-10398 #17) and the OMB control number (0938-1148). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-10398 #17/OMB control number: 0938-1148, Room C4-26-05, 7500 Security Boulevard, Baltimore, MD 21244-1850.

To obtain copies of a supporting statement and any related forms for the proposed collection(s) summarized in this notice, please access the CMS PRA website by copying and pasting the following web address into your web browser: https://www.cms.gov/medicare/regulations-guidance/legislation/paperwork-reduction-act-1995/pra-listing.

FOR FURTHER INFORMATION CONTACT: William N. Parham at 410-786-4669.

SUPPLEMENTARY INFORMATION: CMS is extending the comment period of the revised CHIP State Plan Eligibility collection of information request that published in the Federal Register on June 12, 2025 (90 FR 24804). Due to difficulties with posting the collection of information's materials on the internet for public review and comment, this notice extends the comment period by six days. While the notice published, as indicated on June 12, the collection of information's materials did not post until June 18; a difference of six days and an extension of the initial June 26 comment due date to July 2.

Following is a summary of the use and burden associated with the subject information collection(s). More detailed information can be found in the collection's supporting statement and associated materials (see ADDRESSES).

Generic Information Collection

1. Title of Information Collection: CHIP State Plan Eligibility; Type of Information Collection Request: Revision of a currently approved collection; Use: Under section 2110(b)(2)(A) of the Social Security Act (SSA) and 42 CFR 457.310(c)(2)(i), children who are inmates of a public institution are excluded from the definition of targeted low-income child and therefore are not eligible for CHIP. However, section 5121 of the Consolidated Appropriations Act of 2023 (CAA, 2023) added a new section 2110(b)(7) to the SSA that provides limited exceptions to this exclusion. Effective January 1, 2025, children are no longer subject to the CHIP eligibility exclusion if they are within 30 days prior to their release from incarceration from a public institution.

Also, under section 5121, a new section 2102(d) was added to the SSA, effective January 1, 2025, which prohibits states from terminating otherwise eligible CHIP enrollees who are inmates of a public institution and instead permits states to suspend coverage during the enrollee's incarceration. States that elect to suspend coverage may implement either a benefits or eligibility suspension. States must also provide screening and diagnostic services, and case management services available under the CHIP state plan in the 30 days prior to release in accordance with section 2102(d)(2) of the SSA.

Additionally, through section 5122 of the CAA, 2023 states may implement the option to lift the CHIP eligibility exclusion for children who are incarcerated while pending disposition of charges and provide them with full CHIP state plan benefits during that time.

This May 2025 iteration adds a new CHIP eligibility template “General Eligibility—Incarcerated CHIP Beneficiaries” and an associated implementation guide. The revision is intended to conform with the sections 5121 and 5122 of the CAA, 2023.

Form Number: CMS-10398 #17 (OMB control number: 0938-1148); Frequency: Once and Occasionally; Affected Public: State, Local, or Tribal Governments; Number of Respondents: 56; Total Annual Responses: 56; Total Annual Hours: 2,805. (For policy questions regarding this collection contact: Mary Beth Hance at 443-934-2613.)

William N. Parham, III,
Director, Division of Information Collections and Regulatory Impacts, Office of Strategic Operations and Regulatory Affairs.

[FR Doc. 2025-11519 Filed 6-23-25; 8:45 am]

BILLING CODE 4120-01-P